DEPARTMENT OF JUSTICE

[OMB Number 1121-0197]

Agency Information Collection Activities; Proposed eCollection eComments Requested; Extension of a Previously Approved Collection; State Criminal Alien Assistance Program (SCAAP)

AGENCY: Bureau of Justice Assistance, Department of Justice.

ACTION: 60-Day notice.

SUMMARY: The Bureau of Justice Assistance, Department of Justice (DOJ), will be submitting the following information collection request to the Office of Management and Budget (OMB) for review and approval in accordance with the Paperwork Reduction Act of 1995.

DATES: Comments are encouraged and will be accepted for 60 days until January 6, 2025.

FOR FURTHER INFORMATION CONTACT: If you have additional comments especially on the estimated public burden or associated response time, suggestions, or need a copy of the proposed information collection instrument with instructions or additional information, please contact Joseph Husted, State Policy Advisor, Bureau of Justice Assistance, Department of Justice, 999 N Capitol St. NE, Washington, DC 20002; email: SCAAP@usdoj.gov; telephone: 202-598-3617.

SUPPLEMENTARY INFORMATION: Written comments and suggestions from the public and affected agencies concerning the proposed collection of information are encouraged. Your comments should address one or more of the following four points:

—Evaluate whether the proposed collection of information is necessary for the proper performance of the functions of the Bureau of Justice Assistance, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: In response to the Violent Crime Control and Law Enforcement Act of 1994 section 130002(b) as amended in 1996, BJA administers the State Criminal Alien Assistance Program (SCAAP) and the Department of Homeland Security (DHS). SCAAP provides Federal payments to States and localities that incurred correctional officer salary costs for incarcerating undocumented criminal aliens with at least one felony or two misdemeanor convictions for violations of State or local law, and who are incarcerated for at least 4 consecutive days during the designated reporting period and for the following correctional purposes:

Salaries for corrections officers

Overtime costs

Performance based bonuses

Corrections work force recruitment and retention

Construction of corrections facilities

Training/education for offenders

Training for corrections officers related to offender population management

Consultants involved with offender population

Medical and mental health services

Vehicle rental/purchase for transport of offenders

Prison Industries

Pre-release/reentry programs

Technology involving offender management/inter agency information sharing

Disaster preparedness continuity of operations for corrections facilities

Overview of This Information Collection

1. Type of Information Collection: Extension.

2. The Title of the Form/Collection: State Criminal Alien Assistance Program (SCAAP) (Authorizing Legislation: Section 241(i) of the Immigration and Nationality Act (8 U.S.C. 1231(i)).

3. The agency form number, if any, and the applicable component of the Department sponsoring the collection: The application process is managed through the internet, using the Office of Justice Programs' (OJP) SCAAP online application system at: https://bja.ojp.gov/program/state-criminal-alien-assistance-program-scaap/overview?Program_ID=86.

4. Affected public who will be asked or required to respond, as well as the obligation to respond: Affected Public: State, local and Tribal governments. The obligation to respond is required to obtain/retain a benefit.

5. An estimate of the total number of respondents and the amount of time estimated for an average respondent to respond: The total or estimated number of respondents for SCAAP is 500.

The time per response is 90 minutes to complete the SCAAP application.

6. An estimate of the total annual burden (in hours) associated with the collection: The total annual burden hours for this collection is 750 hours.

7. An estimate of the total annual cost burden associated with the collection, if applicable: $0.

Total Burden Hours
Activity | Number of respondents | Frequency | Total annual responses | Time per response (min) | Total annual burden (hours)
SCAAP Application | 500 | 1/annually | 500 | 90 | 750
Unduplicated Totals | 500 |  | 500 |  | 750

If additional information is required contact: Darwin Arceo, Department Clearance Officer, United States Department of Justice, Justice Management Division, Policy and Planning Staff, Twon Constitution Square, 145 N Street NR, 4W-218, Washington DC.

Dated: October 31, 2024.
Darwin Arceo,
Department Clearance Officer for PRA, U.S. Department of Justice.

[FR Doc. 2024-25705 Filed 11-4-24; 8:45 am]

BILLING CODE 4410-18-P